DEPARTMENT OF THE INTERIOR

National Park Service

National Register of Historic Places; Notification of Pending Nominations and Related Actions

Nominations for the following properties being considered for listing or related actions in the National Register were received by the National Park Service before February 24, 2007.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by March 27, 2007.

J. Paul Loether,
Chief, National Register of Historic Places/National, Historic Landmarks Program.

CALIFORNIA

Los Angeles County

McNally, Andrew, House, 654 E. Mariposa St., Altadena, 07000245

DELAWARE

Sussex County

West Woods Methodist Episcopal Church, West Woods Rd., W. of Millsboro Hwy., Gumboro, 07000246

GEORGIA

Catoosa County

Blackford—Gray House, 319 Gray St., Graysville, 07000247

KANSAS

Crawford County

Raymond Community Home, 301 Osage St., Girard, 07000255

Doniphan County

Highland Christian Church, (Highland, Doniphan County, Kansas MPS), 102 E. Main St., Highland, 07000250

Highland Presbyterian Church, (Highland, Doniphan County, Kansas MPS), 101 South Ave., Highland, 07000248

Highland Water Tower, (Highland, Doniphan County, Kansas MPS), Jct. N. Genesee and W. Illinois Sts., Highland, 07000249

Wynkoop, A.L., House, (Highland, Doniphan County, Kansas MPS), 307 West Pennsylvania, Highland, 07000251

Sedgwick County

Johnson Drug Store Building, 2329 E. Central, Wichita, 07000254

Keep Klean Building, 810 E. Third, Wichita, 07000252

Stoner Apartment Building, 938-940 North Market, Wichita, 07000253

OKLAHOMA

Coal County

Keel Creek Bridge, OK 31 over Keel Creek, Coalgate, 07000257

Jackson County

Perryman Ranch Headquarters, 0.2 mi. E. of jct. of Cty. Rds. N193 and E159, Duke, 07000260

Oklahoma County

Douglass High School, Old, 600 N. High Ave., Oklahoma City, 07000259

Pontotoc County

Meaders, F.W., House, 521 South Broadway, Ada, 07000258

OREGON

Multnomah County

Baruh—Zell House, 3131 SE Talbot Rd., Portland, 07000256

Goldsmith, Alan and Barbara, House, 4140 SW Greenleaf Court, Portland, 07000261

Lane—Miles Standish Company Printing Plant, 1539 NW 19th Ave., Portland, 07000262

Wilson—Chambers Mortuary, 430 N. Killingsworth St., Portland, 07000263

RHODE ISLAND

Providence County

Earnscliffe Woolen—Paragon Worsted Company Mill Complex, 25 and 39 Manton Ave., Providence, 07000265

Howard, Ebenezer, House, 1264 Round Top Rd., Burrillville, 07000264

TEXAS

Bee County

Beeville Post Office, 111 N. St. Mary's St., Beeville, 07000272

Cooke County

Nelson Farmstead, 7729 FM 678, Gainesville, 07000270

Johnson County

Smith Ranch, FM 916, 1 mi. W of TX 174, Rio Vista, 07000271

San Augustine County

San Augustine Commercial Historic District, Roughly bounded by Main St., Montgomery St., Congress St., Broadway, Columbia St., property lines and Golden Way, San Augustine, 07000269

Tarrant County

Kress Building, 604 Main St., Fort Worth, 07000266

VIRGINIA

Goochland County

Tinsley Tavern, 2791 Elk Island Rd., Columbia, 07000276

Isle Of Wight County

Ivy Hill Cemetery, W. of N. Church St., Smithfield, 07000275

Loudoun County

Purcellville Historic District, Roughly bounded by W&OD Trail, S. 32nd St., W. F and E. G Sts., and Maple Ave., Purcellville, 07000277

Louisa County

Boxley Place, 103 Ellisville Dr., Louisa, 07000273

Norfolk Independent City

Zion Methodist Church, 2729 Bowden's Ferry Rd., Norfolk (Independent City), 07000274.

[FR Doc. E7-4317 Filed 3-9-07; 8:45 am]

BILLING CODE 4312-51-P